DEPARTMENT OF COMMERCE

International Trade Administration

[C-533-866]

Cold-Rolled Steel Flat Products From India: Final Results of the Expedited Five-Year Sunset Review of the Countervailing Duty Order

AGENCY: Enforcement and Compliance, International Trade Administration, Department of Commerce.

SUMMARY: As a result of this sunset review, the Department of Commerce (Commerce) finds that revoking the countervailing duty (CVD) order on cold-rolled steel flat products (cold-rolled steel) from India would likely lead to continuation or recurrence of countervailable subsidies at the levels indicated in the “Final Results of Review” section of this notice.

DATES: Applicable October 1, 2021.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On September 20, 2016, Commerce published in the Federal Register the Order.¹ On June 1, 2021, the Department of Commerce (Commerce) published the notice of initiation of the sunset reviews of the Order, pursuant to section 751(c) of the Act.² On June 14 and 16, 2021, Commerce received a notice of intent to participate from Cleveland-Cliffs Inc. (Cleveland-Cliffs), United States Steel Corporation (U.S. Steel), California Steel Industries (California Steel), Steel Dynamics Inc. (Steel Dynamics), and Nucor Corporation (Nucor), within the deadline specified in 19 CFR 351.218(d)(1)(i).³ Cleveland-Cliffs, U.S. Steel, California Steel, Steel Dynamics, and Nucor claimed interested party status under section 771(9)(C) of the Act, as domestic producers of cold-rolled steel flat products in the United States.

¹ See Certain Cold-Rolled Steel Flat Products from Brazil, India, and the Republic of Korea: Amended Final Affirmative Countervailing Duty Determination and Countervailing Duty Order (the Republic of Korea) and Countervailing Duty Orders (Brazil and India), 81 FR 64436 (September 20, 2016) (Order).

² See Initiation of Five-Year (“Sunset”) Review, 86 FR 29239 (June 1, 2021).

³ See Cleveland-Cliffs' Letter, “Five-Year (“Sunset”) Review Of Countervailing Duty Order On Cold-Rolled Steel Flat Products from India: Notice Of Intent To Participate In Sunset Review,” dated June 14, 2021; U.S. Steel's Letter “Five-Year (“Sunset”) Review of Antidumping and Countervailing Duty Orders on Cold-Rolled Steel Flat Products from India: Notice of Intent to Participate,” dated June 16, 2021; California Steel's Letter “Notice of Intent to Participate in the First Five-Year Review of the Countervailing Duty Order on Cold-Rolled Steel Flat Products from India,” dated June 16, 2021; and Nucor's Letter “Certain Cold-Rolled Steel Flat Products from India: Notice of Intent to Participate in Sunset Review,” dated June 16, 2021.

Commerce received a substantive response from Cleveland-Cliffs, U.S. Steel, California Steel, Steel Dynamics, and Nucor (collectively, domestic interested parties) within the 30-day deadline specified in 19 CFR 351.218(d)(3)(i).⁴ We received no substantive response from any other domestic or respondent interested parties in this proceeding and no hearing was requested. On July 22, 2021, Commerce notified the U.S. International Trade Commission that it did not receive an adequate substantive response from respondent interested parties.⁵ As a result, pursuant to section 751(c)(3)(B) of the Act and 19 CFR 351.218(e)(1)(ii)(C)(2), Commerce conducted an expedited (120-day) sunset review of this CVD Order.

⁴ See Domestic Interested Parties' Letter, “First Five-Year (“Sunset”) Review of Countervailing Duty Order on Cold-Rolled Steel Flat Products from India: Domestic Industry's Substantive Response to Notice of Initiation,” dated July 1, 2021 (Domestic Interested Parties' Substantive Response).

⁵ See Commerce's Letter, “Sunset Reviews Initiated on June 1, 2021,” dated June 1, 2021.

Scope of the Order

The products covered by this order are certain cold-rolled (cold-reduced), flat-rolled steel products, whether or not annealed, painted, varnished, or coated with plastics or other non-metallic substances.

Imports of the subject merchandise are provided for under Harmonized Tariff Schedule of the United States (HTSUS) categories: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050. The products subject to the order may also enter under the following HTSUS numbers: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000. While HTSUS subheadings are provided for convenience and customs purposes, the written description of the scope of the Order is dispositive.⁶

⁶ For a full description of the scope of the order, see Memorandum, “Issues and Decision Memorandum for the Expedited First Sunset Review of the Countervailing Duty Order on Cold-Rolled Steel Flat Products from India,” dated concurrently with, and hereby adopted by, this notice (Issues and Decision Memorandum).

Analysis of Comments Received

All issues raised in this sunset review are addressed in the Issues and Decision Memorandum, which is hereby adopted by this notice. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly at http://enforcement.trade.gov/frn.

Final Results of Sunset Review

Pursuant to sections 751(c)(1) and 752(b) of the Act, Commerce determines that revocation of the Order would be likely to lead to continuation or recurrence of countervailable subsidies at the following rates:

Producer/exporter | Net countervailable subsidy (percent)
JSW Steel Limited and JSW Steel Coated Products Limited | 10.00
All Others | 10.00

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: September 29, 2021.
Christian Marsh,
Acting Assistant Secretary for Enforcement and Compliance.

Appendix

List of Topics Discussed in the Issues and Decision Memorandum

I. Summary

II. Background

III. History of the Order

IV. Scope of the Order

V. Legal Framework

VI. Discussion of the Issues

VII. Final Results of Sunset Review

VIII. Recommendation

[FR Doc. 2021-21443 Filed 9-30-21; 8:45 am]

BILLING CODE 3510-DS-P